DEPARTMENT OF COMMERCE

National Oceanic and Atmospheric Administration

RIN 0648-XC991

Pacific Fishery Management Council; Online Webinar

AGENCY: National Marine Fisheries Service (NMFS), National Oceanic and Atmospheric Administration (NOAA), Commerce.

ACTION: Notice of online webinar.

SUMMARY: The Pacific Fishery Management Council's (Pacific Council's) Scientific and Statistical Committee (SSC) Groundfish Subcommittee will hold an online webinar to review a final draft of the 2013 cowcod rebuilding analysis, data-poor overfishing limit (OFL) estimates for kelp greenling and the Washington stock of cabezon, and other business in preparation for the SSC's March 2014 meeting. The online SSC Groundfish Subcommittee webinar is open to the public.

DATES: The SSC Groundfish Subcommittee webinar will commence at 1 p.m. PST, Wednesday, December 11, 2013 and continue until 4 p.m. or as necessary to complete business for the day.

ADDRESSES: To attend the SSC Groundfish Subcommittee webinar, please join online at https://www4.gotomeeting.com/ojoin/ and enter the webinar ID: 661-616-231. Once you have joined the webinar, choose either your computer's audio or select “Use Telephone.” To join the audio teleconference using a telephone, call the toll number +1 (646) 307-1720 (note: Long distance charges may apply) and enter 754-659-346 when prompted for the audio code. An audio personal identification number (PIN) will be shown after joining the meeting. If you do not select “Use Telephone”, you will be connected to audio using your computer's microphone and speakers (VolP). A headset is recommended. If you experience technical difficulties and would like assistance, please contact Mr. Kris Kleinschmidt at 503-820-2280. Public comments during the webinar will be received from attendees at the discretion of the SSC Groundfish Subcommittee chair.

FOR FURTHER INFORMATION CONTACT: Mr. John DeVore, Pacific Council; telephone: (503) 820-2280.

SUPPLEMENTARY INFORMATION: The specific objectives of the SSC Groundfish Subcommittee webinar are to: (1) Review a final draft of the 2013 cowcod rebuilding analysis; (2) review new data-poor OFL estimates for kelp greenling and the Washington stock of cabezon; and (3) review or discuss other items necessary to prepare for the March 2014 SSC meeting in Sacramento, CA. No management actions will be decided in this webinar. Although non-emergency issues not identified in the webinar agenda may come before the webinar participants for discussion, those issues may not be the subject of formal action during this webinar. Formal action at the webinar will be restricted to those issues specifically listed in this notice and any issues arising after publication of this notice that require emergency action under section 305(c) of the Magnuson-Stevens Fishery Conservation and Management Act, provided the public has been notified of the webinar participants' intent to take final action to address the emergency.

Special Accommodations

This meeting is physically accessible to people with disabilities. Requests for auxiliary aids should be directed to Mr. Kris Kleinschmidt at (503) 820-2280 at least 5 days prior to the webinar date.

Dated: November 20, 2013.
Tracey L. Thompson,
Acting Deputy Director, Office of Sustainable Fisheries, National Marine Fisheries Service.

[FR Doc. 2013-28179 Filed 11-22-13; 8:45 am]

BILLING CODE 3510-22-P